DEPARTMENT OF DEFENSE

Department of the Navy

Notice of Extension of Public Scoping Period and Additional Public Scoping Meetings in Lopez Island and Port Townsend, Washington, for the Environmental Impact Statement for EA-18G Growler Airfield Operations at Naval Air Station Whidbey Island, Washington

AGENCY: Department of the Navy, DoD.

ACTION: Notice.

SUMMARY: The Department of the Navy (DoN) is extending the public scoping period for the Revised Notice of Intent to prepare an Environmental Impact Statement (EIS) for EA-18G Growler airfield operations at Naval Air Station (NAS) Whidbey Island, Washington and announcing two additional public scoping meetings. The public scoping period will be extended an additional 45-days to January 9, 2015 and two additional public scoping meetings have been scheduled, one in Lopez Island, Washington and the other in Port Townsend, Washington.

Dates and Addresses: Two open house information sessions will be held between 3:00 p.m. and 6:00 p.m. on:

1. Wednesday, December 3, 2014, Lopez Island Center for Community and Arts, 204 Village Road, Lopez Island, Washington 98261.

2. Thursday, December 4, 2014, Fort Worden Commons, Building 210, 200 Battery Way, Port Townsend, Washington 98368.

Each of the open house information sessions will be informal and consist of information stations staffed by DoN representatives.

The DoN invites comments on the proposed scope and content of the EIS from all interested parties, including Federal agencies, state agencies, local agencies, American Indian Tribes and Nations, and interested persons. Comments on the scope of the EIS may be provided via the U.S. Postal Service or the EIS Web site at: www.whidbeyeis.com. All comments provided orally or in writing at the scoping meetings, through the project Web site or by mail during the scoping period will receive the same consideration during EIS preparation. All comments must be postmarked no later than January 9, 2015.

The DoN will not release the names, street addresses, email addresses and screen names, telephone numbers, or other personally identifiable information of individuals who provide comments during scoping unless required by law. However, the DoN may release the city, state, and 5-digit zip code of individuals who provide comments. Each commenter making oral comments at the public scoping meetings will be asked by the stenographer if he/she otherwise elects to authorize the release of their personally identifiable information prior to providing their comments. Commenters submitting written comments, either using comment forms or via the project Web site, may elect to authorize release of personally identifiable information by checking a “release” box on the comment form.

To be included on the DoN's mailing list for the EIS (or to receive a copy of the Draft EIS, when released), electronic requests can be made on the project Web site at www.whidbeyeis.com. Requests via the U.S. Postal Service should be submitted to: EA-18G EIS Project Manager (Code EV21/SS); Naval Facilities Engineering Command (NAVFAC) Atlantic, 6506 Hampton Blvd., Norfolk, VA 23508. The same policy for release of personally identifiable information as identified above for scoping comments will be maintained by DoN for individuals requesting to be included on the EIS mailing list.

FOR FURTHER INFORMATION CONTACT: EA-18G EIS Project Manager (Code EV21/SS); Naval Facilities Engineering Command (NAVFAC) Atlantic, 6506 Hampton Boulevard, Norfolk, Virginia 23508.

Dated: November 7, 2014.
N. A. Hagerty-Ford,
Commander, Office of the Judge Advocate General, U.S. Navy, Federal Register Liaison Officer.

[FR Doc. 2014-27156 Filed 11-14-14; 8:45 am]

BILLING CODE 3810-FF-P